DEPARTMENT OF COMMERCE

International Trade Administration

[Application No. 84-25A12]

Export Trade Certificate of Review

ACTION: Notice of Issuance of an Export Trade Certificate of Review to Northwest Fruit Exporters, Application No. 84-25A12.

SUMMARY: The Secretary of Commerce, through the International Trade Administration, Office of Trade and Economic Analysis (OTEA), issued an amended Export Trade Certificate of Review (“Certificate”) to Northwest Fruit Exporters on August 22, 2014. The previous amendment was issued on August 13, 2013 (78 FR 53727).

FOR FURTHER INFORMATION CONTACT: Joseph E. Flynn, Director, Office of Trade and Economic Analysis, International Trade Administration, by telephone at (202) 482-5131 (this is not a toll-free number) or email at etca@trade.gov.

SUPPLEMENTARY INFORMATION: Title III of the Export Trading Company Act of 1982 (15 U.S.C. 4001-21) authorizes the Secretary of Commerce to issue Export Trade Certificates of Review. The regulations implementing Title III are found at 15 CFR Part 325 (2012). OTEA is issuing this notice pursuant to 15 CFR 325.6(b), which requires the Department of Commerce to publish a summary of the certificate in the Federal Register. Under Section 305(a) of the Act and 15 CFR 325.11(a), any person aggrieved by the Secretary's determination may, within 30 days of the date of this notice, bring an action in any appropriate district court of the United States to set aside the determination on the ground that the determination is erroneous.

Description of Amendments to the Certificate

1. Add the following company as a new Member of the Certificate within the meaning of section 325.2(l) of the regulations (15 CFR 325.2(l)): Garrett Ranches Packing (Wilder, ID);

2. Remove the following companies as a Member of NWF's Certificate: Eakin Fruit Co. (Union Gap, WA); and Wenoka Sales LLC (Wenatchee, WA); and

3. Change the name of the following member: Underwood Fruit and Warehouse (White Salmon, WA) is now The Dalles Fruit Company, LLC (Dallesport, WA).

NWF's Export Trade Certificate of Review complete amended membership is listed below:

4. Allan Bros., Naches, WA

5. AltaFresh L.L.C. dba Chelan Fresh Marketing, Chelan, WA

6. Apple King, L.L.C., Yakima, WA

7. Auvil Fruit Co., Inc., Orondo, WA

8. Baker Produce, Inc., Kennewick, WA

9. Blue Bird, Inc., Peshastin, WA

10. Blue Mountain Growers, Inc., Milton-Freewater, OR

11. Blue Star Growers, Inc., Cashmere, WA

12. Borton & Sons, Inc., Yakima, WA

13. Brewster Heights Packing & Orchards, LP, Brewster, WA

14. Broetje Orchards LLC, Prescott, WA

15. C&M Fruit Packers, Wenatchee, WA

16. C.M. Holtzinger Fruit Co., Inc., Yakima, WA

17. Chelan Fruit Cooperative, Chelan, WA

18. Chiawana, Inc. dba Columbia Reach Pack, Yakima, WA

19. Columbia Fruit Packers, Inc., Wenatchee, WA

20. Columbia Marketing International Corp., Wenatchee, WA

21. Columbia Valley Fruit, L.L.C., Yakima, WA

22. Congdon Packing Co. L.L.C., Yakima, WA

23. Conrad & Adams Fruit L.L.C., Grandview, WA

24. Cowiche Growers, Inc., Cowiche, WA

25. CPC International Apple Company, Tieton, WA

26. Crane & Crane, Inc., Brewster, WA

27. Custom Apple Packers, Inc., Brewster, Quincy, and Wenatchee, WA

28. Diamond Fruit Growers, Odell, OR

29. Domex Marketing, Yakima, WA

30. Douglas Fruit Company, Inc., Pasco, WA

31. Dovex Export Company, Wenatchee, WA

32. E. Brown & Sons, Inc., Milton-Freewater, OR

33. Evans Fruit Co., Inc., Yakima, WA

34. E.W. Brandt & Sons, Inc., Parker, WA

35. Frosty Packing Co., LLC, Yakima, WA

36. G&G Orchards, Inc., Yakima, WA

37. Garrett Ranches Packing, Wilder, ID

38. Gilbert Orchards, Inc., Yakima, WA

39. Gold Digger Apples, Inc., Oroville, WA

40. Hansen Fruit & Cold Storage Co., Inc., Yakima, WA

41. Henggeler Packing Co., Inc., Fruitland, ID

42. Highland Fruit Growers, Inc., Yakima, WA

43. HoneyBear Growers, Inc., (Brewster, WA)

44. Honey Bear Tree Fruit Co., LLC, Wenatchee, WA

45. Hood River Cherry Company, Hood River, OR

46. Ice Lakes LLC, E. Wenatchee, WA

47. JackAss Mt. Ranch, Pasco, WA

48. Jenks Bros Cold Storage Packing (Royal City, WA)

49. Kershaw Fruit & Cold Storage, Co., Yakima, WA

50. L&M Companies, Selah, WA

51. Larson Fruit Co., Selah, WA

52. Manson Growers Cooperative, Manson, WA

53. Matson Fruit Company, Selah, WA

54. McDougall & Sons, Inc., Wenatchee, WA

55. Monson Fruit Co.—Apple operations only, Selah, WA

56. Morgan's of Washington dba Double Diamond Fruit, Quincy, WA

57. Northern Fruit Company, Inc., Wenatchee, WA

58. Obert Cold Storage, Zillah, WA

59. Olympic Fruit Co., Moxee, WA

60. Oneonta Trading Corp., Wenatchee, WA

61. Orchard View Farms, Inc., The Dalles, OR

62. Pacific Coast Cherry Packers, LLC, Yakima, WA

63. Phillippi Fruit Company, Inc., Wenatchee, WA

64. Polehn Farm's Inc., The Dalles, OR

65. Price Cold Storage & Packing Co., Inc., Yakima, WA

66. Pride Packing Company, Wapato, WA

67. Quincy Fresh Fruit Co., Quincy, WA

68. Rainier Fruit Company, Selah, WA

69. Roche Fruit, Ltd., Yakima, WA

70. Sage Fruit Company, L.L.C., Yakima, WA

71. Smith & Nelson, Inc., Tonasket, WA

72. Stadelman Fruit, L.L.C., Milton-Freewater, OR, and Zillah, WA

73. Stemilt Growers, Inc., Wenatchee, WA

74. Strand Apples, Inc., Cowiche, WA

75. Symms Fruit Ranch, Inc., Caldwell, ID

76. The Apple House, Inc., Brewster, WA

77. The Dalles Fruit Company, LLC, Dallesport, WA

78. Valicoff Fruit Co., Inc., Wapato, WA

79. Valley Fruit III L.L.C., Wapato, WA

80. Washington Cherry Growers, Peshastin, WA

81. Washington Fruit & Produce Co., Yakima, WA

82. Western Sweet Cherry Group, LLC, Yakima, WA

83. Whitby Farms, Inc. dba: Farm Boy Fruit Snacks LLC, Mesa, WA

84. Yakima Fresh, Yakima, WA

85. Yakima Fruit & Cold Storage Co., Yakima, WA

86. Zirkle Fruit Company, Selah, WA

The effective date of the amended certificate is May 27, 2014, the date on which NWF's application to amend was deemed submitted.

Date: September 4, 2014
Joseph Flynn, Director,
Office of Trade and Economic Analysis, International Trade Administration.

[FR Doc. 2014-21507 Filed 9-9-14; 8:45 am]

BILLING CODE 3510-DR-P